DEPARTMENT OF THE INTERIOR

Bureau of Land Management

[NV-930-1430-EU; N-77410]

Notice of Realty Action: Segregation Terminated, Direct Sale of Public Lands, Washoe County, NV

AGENCY: Bureau of Land Management, Interior.

ACTION: Notice of realty action.

SUMMARY: A five acre parcel of public land near the town of Gerlach, in Washoe County, Nevada, has been examined and found suitable for sale utilizing direct sale procedures.

DATES: Comments must be submitted by April 11, 2005.

FOR FURTHER INFORMATION CONTACT: M. Lynn Trost , Realty Specialist, at the Bureau of Land Management, Winnemucca Field Station, 5100 E. Winnemucca Blvd., Winnemucca, Nevada 89445, or call (775) 623-1500.

SUPPLEMENTARY INFORMATION: The following described public land has been found suitable for sale under Section 203 of the Federal Land Policy and Management Act (FLPMA) of 1976 (43 U.S.C. 1713). The parcel proposed for sale is described as follows:

T. 32 N., R. 23 E.,

Section 16: SW¼ NW¼ SW¼ NW¼ NW¼, W½ SW¼ SW¼ NW¼ NW¼, and NW¼ NW¼ NW¼ SW¼ NW¼.

Section 17: SE¼ NE¼ SE¼ NE¼ NE¼, E½ SE¼ SE¼ NE¼ NE¼, and NE¼ NE¼ NE¼ SE¼ NE¼.

The area described contains 5 acres. The parcel will be sold at no less than the appraised fair market value of $12,500.00.

These lands are being offered for direct sale, pursuant to 43 CFR 2711.3-3 (a)(1(2)), to the Gerlach General Improvement District of Gerlach, Nevada, the lands being an integral part of a project of public importance and speculative bidding would jeopardize a timely completion and economic viability of the project. The direct sale provides public land for the construction of a water facility to accommodate the town of Gerlach's potable water supply. The parcel currently houses the Water District's two water tanks and associated water transport pipelines, therefore the land is the best choice for the water facility.

The subject lands were segregated for exchange purposes on August 31, 2004, under serial number N-78918. The exchange segregation on the subject lands will be terminated and replaced with the segregation for sale described in this notice. The segregation for exchange purposes is being terminated in order to allow for sale.

The above-described lands are hereby classified for disposal in accordance with section 7 of the Taylor Grazing Act, 43 U.S.C. 315f, Act of June 28, 1934, as amended, and Executive Order 6910. The patent, when issued, will contain the following reservations to the United States:

1. A right-of-way thereon for ditches and canals constructed by authority of the United States, Act of August 30, 1890 (43 U.S.C. 945).

2. All minerals shall be reserved to the United States of America and its assigns, together with the right to prospect for, mine and remove such deposits from the same under applicable law and such regulations as the Secretary of the Interior may prescribe.

And will be subject to the following:

1. Those rights for an electric transmission line which have been granted to Sierra Pacific Power Company by Right-of-way N76832, under the Act of October 21, 1976 (43 U.S.C. 1761) being 20 feet wide by approximately 420 feet long, located in T. 32 N., R. 23 E., Section 16: W½SW¼NW¼NW¼ and Section 17: E½SE¼NE¼NE¼.

2. Those rights for a water pipeline which have been granted to Union Pacific Railroad by Right-of-way CC-017565, under the Act of February 15, 1901 (31 Stat. 790; 43 U.S.C. 959), being 50 feet wide by approximately 460 feet long, located in T. 32 N., R. 23 E., Section 16: SW¼NW¼NW¼, and Section 17: SE¼NE¼NE¼.

3. Those rights for public ingress and egress purposes which have been granted to Sierra Pacific Power Company by Right-of-way N-79126 under the Act of October 21, 1976 (43 U.S.C. 1761), for Godey's Gap Road, being 24 feet wide by 420 feet long located in T. 32 N., R. 23 E., Section 16: NW¼SW¼NW¼NW¼, and Section 17: E½SE¼NE¼NE¼.

4. Those rights for Federal geothermal lease N-77268 granted to Western Geothermal Partners, LLC, under the Geothermal Steam Act of 1970 (30 U.S.C. Section 1001 et seq., as amended), and associated regulations 43 CFR part 3200, T. 32 N., R. 23 E., Section 16: SW¼NW¼NW¼.

5. Valid existing rights.

The purchaser/patentee, by accepting patent, agrees to indemnify, defend, and hold the United States harmless from any costs, damages, claims, causes of action, penalties, fines, liabilities, and judgments of any kind arising from the past, present or future acts or omissions of the patentee, its employees, agents, contractors, or lessees, or any third-party arising out of or in connection with the patentee's use and/or occupancy of the patented real property resulting in: (1) Violations of Federal, State, and local laws and regulations that are now or in the future become, applicable to the real property; (2) Judgments, claims or demands of any kind assessed against the United States; (3) Costs, expenses, or damages of any kind incurred by the United States; (4) Releases or threatened releases of solid or hazardous waste(s) and/or hazardous substances(s), as defined by Federal or State environmental laws, off, on, into or under land, property, and other interests of the United States; (5) Other activities by which solids or hazardous substances or wastes, as defined by Federal and State environmental laws are generated, released, stored, used, or otherwise disposed of on the patented real property, and any cleanup response, remedial action or other actions related in any manner to said solid or hazardous substances or wastes; or (6) Natural resource damages as defined by Federal and State law. This covenant shall be construed as running with the patented real property and may be enforced by the United States in a court of competent jurisdiction.

Federal law requires purchasers to be U.S. citizens 18 years of age or older; a corporation subject to the laws of any State or of the United States; a State, State instrumentality, or political subdivision authorized to hold property; or an entity including, but not limited to, associations or partnerships capable of holding property or interests therein under the laws of the State of Nevada. Certification of qualification, including citizenship or corporation or partnership, must accompany the sale deposit.

In order to determine the fair market value of the subject public lands through appraisal, certain assumptions have been made of the attributes and limitations of the lands and potential effects of local regulations and policies on potential future land uses. Through publication of this notice, the Bureau of Land Management (BLM) gives notice that these assumptions may not be endorsed or approved by units of local government. Furthermore, no warranty of any kind shall be given or implied by the United States as to the potential uses of the lands offered for sale, and conveyance of the subject lands will not be on a contingency basis. It is the buyer's responsibility to be aware of all applicable local government policies and regulations that would affect the subject lands. It is also the buyer's responsibility to be aware of existing or prospective uses of nearby properties. The purchaser will have 30 days from the date of receiving the sale offer to accept the offer and to submit a deposit of 30 percent of the purchase price. The purchaser must remit the remainder of the purchase price within 180 days from the date the sale offer is received.

The purchase price does not include the costs for publishing this Notice in the Federal Register. The purchaser will be required to reimburse the BLM for all publishing costs of the Notice and for the newspaper notification at final payment of the sale parcel. Payments must be by certified check, postal money order, bank draft, or cashier's check payable to the U.S. Department of the Interior—BLM. Failure to meet conditions established for this sale will void the sale and any monies received will be forfeited.

This parcel of land located near Gerlach, Nevada, is being offered for sale through direct sale procedures. The land is not required for Federal purposes. The disposal (sale) of the parcel would serve an important public objective being an integral part of a project of public importance and speculative bidding would jeopardize a timely completion and economic viability of the project. The proposed action is consistent with the objectives, goals, and decisions of the “Paradise-Denio Management Framework Plan”, and the “Approved Land Amendment and Decision, January 1999.” An appraisal report has been prepared by a state certified appraiser for the purposes of establishing fair market value. The appraisal report is available for review at the address shown above.

Publication of this Notice in the Federal Register segregates the subject lands from all appropriations under the public land laws, including the general mining laws, except sale under the Federal Land Policy and Management Act of 1976. The segregation will terminate upon issuance of the patent or November 22, 2005, whichever occurs first.

For a period until April 11, 2005, interested parties may submit comments to the Winnemucca Field Manager, Terry A. Reed, 5100 E. Winnemucca Blvd., Winnemucca, NV 89445. Comments must be sent by the United States Postal Service or private delivery services. Comments sent by Facsimile, E-mail, or other electronic means shall not be accepted. Comments must be signed with a return address. The BLM will not consider anonymous comments. Any comments received during this process, as well as the commenter's name and address, will be available to the public in the administrative record and/or pursuant to a Freedom of Information Act request. You may indicate for the record that you do not wish to have your name and/or address made available to the public. Any determination by the Bureau of Land Management to release or withhold the names and/or addresses of those who comment will be made on a case-by-case basis. A commenter's request to have their name and/or address withheld from public release will be honored to the extent permissible by law following proper administrative procedures in reaching the decision or any other factor directly related to the suitability of the land for a non-competitive sale.

The Environmental Assessment (EA) and Decision Record (DR) (EA-NV-020-04-34) for this proposed sale are available for review at the Winnemucca Field Office, and on the Winnemucca Field Office Internet address at: http://www.nv.blm.gov/winnemucca. Comments submitted through the Web site shall not be accepted.

Any adverse comments will be reviewed by the State Director, who may sustain, vacate, or modify this realty action and issue a final determination. The Bureau of Land Management may accept or reject any or all offers, or withdraw any land or interest in the land from the sale, if, in the opinion of the Authorized Officer, consummation of the sale would not be fully consistent with the FLPMA or other applicable laws or is determined to not be in the public interest. In the absence of timely filed objections, this realty action will become the final determination of the Department of the Interior. The land will not be offered for sale until April 26, 2005.

Linda G. Goulter,
Assistant Field Manager Support Services, Winnemucca Field Office.

[FR Doc. 05-3622 Filed 2-24-05; 8:45 am]

BILLING CODE 4310-HC-P